DEPARTMENT OF DEFENSE

Department of the Army; Corps of Engineers

Intent To Prepare a Supplemental Environmental Impact Statement for Two Features of the Atchafalaya Basin Floodway System, Louisiana Project: Henderson Lake Management Unit, Which Is an Element of the Management Unit Feature in St. Martin and St. Landry Parishes, Including the Freshwater Distribution Structure for the Henderson Lake Area; and the Recreational Development Feature in St. Martin, Iberia, St. Mary, Iberville, St. Landry, and Pointe Coupee Parishes, LA

AGENCY: Department of the Army, U.S. Army Corps of Engineers, DoD.

ACTION: Notice of intent.

SUMMARY: The U.S. Army Corps of Engineers, New Orleans District (CEMVN) is initiating a Supplemental Environmental Impact Statement (SEIS) for the Henderson Lake Management Unit feature, including the freshwater distribution structure element, of the Henderson Lake Area Atchafalaya Basin, Louisiana project, pursuant to the authority of the Flood Control Act of May 15, 1928 (Pub. L. 391, 70th Congress); and for the Recreational Development feature of the Atchafalaya Basin Floodway System, Louisiana project (hereinafter “ABFS” project), pursuant to the authority of the Flood Control Act of May 15, 1928 (Pub. L. 391, 70th Congress), as amended by the Supplemental Appropriations Act of 1985, Pub. L. 99-88 and as reauthorized and further amended by Section 601(a) of the Water Resources Development Act of 1986 (WRDA 1986), Pub. L. 99-662.

The CEMVN is initiating this study to implement construction and operation of the Henderson Lake Management Unit, St. Martin and St. Landry Parishes, which is one of two authorized pilot management units for the Management Unit feature of the ABFS Project; the freshwater distribution structure element, of the Henderson Lake Area Atchafalaya Basin, Louisiana project in St. Martin and St. Landry Parishes, Louisiana; and the Recreational Development feature of the Atchafalaya Basin Floodway System, Louisiana project in St. Martin, Iberia, St. Mary, Iberville, St. Landry, and Pointe Coupee Parishes, Louisiana. The authorized goals of the Management Unit feature of the ABFS project are to improve water quality and interior water circulation; remove barriers to reestablish north to south water flow; provide input of oxygenated low temperature water; and reduce or manage sediment input into the interior swamp. Action is necessary due to the existing poor water quality resulting from the lack of internal circulation and oxygenated water inputs, and increased sedimentation. In addition if action is not taken, both deep-water and shallow water habitat utilized by fish and wildlife resources will continue to be lost, reduced, or degraded. The intended result of the proposed work is to prolong the life expectancy of the productive habitat (primarily aquatic and cypress tupelo habitats) by restricting or redirecting sediments, while simultaneously achieving a healthy water circulation pattern that would maintain or restore water quality and reestablish north to south water movement. The Henderson Lake Management Unit is hydrologically separate and independent from the Buffalo Cove, Flat Lake, Cocodrie Swamp and Beau Bayou Management Unit elements of the ABFS project.

The authorized goal of the freshwater distribution structure element, of the Henderson Lake Area Atchafalaya Basin, Louisiana project is to provide water inflow to the Henderson Lake area and, together with the Henderson Lake Management Unit, restore overflow patterns to the extent practicable, and to encourage water movement through the Henderson Lake Management Unit for the benefit of the aquatic environment.

The goals and objectives of the Recreational Development feature of the ABFS project are the development of facilities such as boat launching ramps for the provision of interior and peripheral access to the ABFS project area, including those lands acquired for the Public Access feature of the ABFS project, as well as the construction and operation of developed and primitive campgrounds, an interpretive facility and other facilities complementary to the enjoyment of outdoor recreational activities for the observation and utilization by the public of the fish and wildlife resources of the Lower Atchafalaya Basin Floodway. Public demand and expectations for the ABFS have increased due to an increased awareness and use of the vast ABFS natural resource, and the involvement of the CEMVN through management and part-ownership of the resource. The CEMVN will address public concerns for management of the Henderson Lake Management Unit, and recreational development opportunities within the ABFS, through an SEIS.

FOR FURTHER INFORMATION CONTACT: Questions concerning this SEIS should be addressed to Mr. Richard Boe at U.S. Army Corps of Engineers, PM-RP, P.O. Box 60267, New Orleans, LA 70160-0267, phone (504) 862-1505, fax number (504) 862-2572 or by e-mail at Richard.E.Boe@mvn02.usace.army.mil.

SUPPLEMENTARY INFORMATION: 1. Proposed Action. Under the proposed action the existing project will be investigated to identify and evaluate possible alternatives for the freshwater distribution structure element of the Henderson Lake Area Atchafalaya Basin, Louisiana project, the Henderson Lake Management Unit, and the Recreational Development feature of the ABFS project.

A. Henderson Lake Management Unit: The Henderson Lake Management Unit represents one of two pilot management units authorized by WRDA 1986 for the Management Unit feature of the ABFS Project in accordance with the Atchafalaya Basin Feasibility Study and the accompanying Environmental Impact Statement dated January 1982, as approved by the Report of the Chief of Engineers dated February 28, 1983. Because the Henderson Lake Management Unit constitutes one of the “pilot” management units for the Management Unit feature of the ABFS project, the SEIS will clearly identify the possibility that additional future work may be recommended in the Henderson Lake Management Unit if the analysis of the operational monitoring data supports a finding that the Henderson Lake Management Unit elements initially proposed in the 1982 EIS for construction do not fully accomplish the goals and objectives of the authorized Management Unit feature of the ABFS project. The Henderson Lake Management Unit is hydrologically separate and independent from the other pilot management unit (Buffalo Cove Management Unit) and from the three conditionally authorized management units, Cocodrie Swamp, Flat Lake and Beau Bayou. Additionally, the management unit objectives, public interests and concerns that will be addressed at the Henderson Lake Management Unit differ substantially from those present for the other management units at Buffalo Cove, Flat Lake, Cocodrie Swamp and Beau Bayou. As such, Buffalo Cove, Flat Lake, Cocodrie Swamp and Beau Bayou will be the subject of a separate SEIS.

B. The development of the freshwater distribution structure element, of the Henderson Lake Area will serve as a source of freshwater for the Henderson Lake Management Unit which, with the implementation of the Henderson Lake Management Unit, will restore overflow patterns to the extent practicable and encourage water movement within the Henderson Lake Management Unit area for the benefit of the aquatic environment.

C. The development of the Recreational Development feature of the ABFS project will include, but is not limited to; campgrounds for recreational vehicles, tent, and primitive camping; paddling, hiking and biking trails; interpretive trails; bird watching facilities; boat launches; a project visitor center; and certain special and unique areas. These facilities will accommodate and support public-use in the ABFS, provide for additional entry into the ABFS to access its resources, and protect and aide in interpreting specific environmentally and culturally significant resources. The proposals for the freshwater distribution structure element of the Henderson Lake Area Atchafalaya Basin, Louisiana project, the Recreational Development feature of the ABFS project and the Henderson Lake Management Unit element of the Management Unit feature of the ABFS project are being investigated in the same document because the operation of the Henderson Lake Management Unit will have an impact on the nature and scope of recreational development that can take place in the area affected by the Henderson Lake Management Unit.

2. Alternatives. The alternative formulation process for the Henderson Lake Management Unit of the ABFS project and the freshwater distribution structure element of the Henderson Lake Area Atchafalaya Basin, Louisiana project will include, but shall not be limited to, an evaluation of the “no action alternative”, the original structural alternative plan as proposed in the 1982 Atchafalaya Basin Floodway System, Louisiana Final Environmental Impact Statement and Feasibility Study, and other alternatives, such as dredging, lake draw downs, and spraying of vegetation, including hydrilla and hyacinth, for the regulation of water distribution, the improvement of water quality and interior water circulation, and the restoration, to the extent possible, of overflow patterns in the Henderson Lake Management Unit area. Alternative recreational features for the ABFS would be various combinations of the proposed action recreation feature. The alternatives analysis for all of these elements will continue to evolve throughout the development of the SEIS.

3. Scoping. Scoping is the process for determining the scope of alternatives and significant issues to be addressed in the SEIS. For this analysis, a letter will be sent to all parties believed to have an interest in the analysis, requesting their input on alternatives and issues to be evaluated. The letter will also notify interested parties of public scoping meetings that will be held in the local area. Notices will also be sent to local news media. All interested parties are invited to comment at this time, and anyone interested in this study should request to be included in the study mailing list.

Public scoping meetings will be held in the vicinity of Lafayette, St. Martinville, and Baton Rouge, Louisiana. Depending on public interest, and if further public coordination is warranted, additional meetings may be scheduled.

4. Significant Issues. The tentative list of resources and issues to be evaluated in the SEIS includes wetlands (marshes and swamps), aquatic resources, commercial and recreational fisheries, wildlife resources, water quality, air quality, threatened and endangered species, recreation resources, and cultural resources. Socioeconomic items to be evaluated in the SEIS include navigation, flood protection, business and industrial activity, employment, land use, property values, public/community facilities and services, tax revenues, population, community and regional growth, transportation, housing, community cohesion, and noise.

5. Environmental Consultation and Review. The U.S. Fish and Wildlife Service (USFWS) will be assisting in the documentation of existing conditions and assessment of effects of project alternatives through Fish and Wildlife Coordination Act consultation procedures. The USFWS will provide a Fish and Wildlife Coordination Act report. The CEMVN will consult with the USFWS concerning threatened and endangered species and their critical habitat. The CEMVN will notify all interested agencies, organizations, and individuals as to availability of a draft SEIS for review. The CEMVN will coordinate with the Natural Resources Conservation Service for prime and unique farmlands. The CEMVN will coordinate with the Advisory Counsel on Historic Preservation and the State Historic Preservation Officer. The CEMVN will coordinate with the Louisiana Department of Natural Resources regarding consistency with the Coastal Zone Management Act. The CEMVN will contact the Louisiana Department of Wildlife and Fisheries concerning potential impacts to Natural and Scenic Rivers and Streams. The Louisiana Department of Environmental Quality will review the action for consistency with applicable laws regarding the discharge of dredged material as it relates to impacting water quality and will provide the State of Louisiana Water Quality Certification.

6. Estimated Date of Availability. Funding levels will dictate the date when the draft SEIS will be available for review. The earliest date that the draft SEIS is expected to be available is in December of 2007.

Dated: July 11, 2005.
Stephen E. Jeselink,
Lieutenant Colonel, U.S. Army, District Engineer.

[FR Doc. 05-14581 Filed 7-22-05; 8:45 am]

BILLING CODE 3710-84-P